FEDERAL COMMUNICATIONS COMMISSION

Sunshine Act Notice

February 16, 2000.

Deletion of Agenda Item From February 17th Open Meeting

The following item has been deleted from the list of agenda items scheduled for consideration at the February 17, 2000, Open Meeting and previously listed in the Commission's Notice of February 10, 2000.

ITEM NO. 3.

BUREAU: Wireless telecommunications.

SUBJECT: Title: Calling Party Pays Service Offering in the Commercial Mobile Radio Services (WT Docket No. 97-207).

Summary: The Commission will consider a Memorandum Opinion and Order on Reconsideration and Report and Order concerning rules for facilitating calling party pays.

Federal Communications Commission.
Magalie Roman Salas,
Secretary.

[FR Doc. 00-4528 Filed 2-22-00; 3:54 pm]

BILLING CODE 6712-01-M